DEPARTMENT OF THE INTERIOR

Bureau of Land Management

[LLNVE00000 L5440000 EU0000 LVCLF1906630 20X; N-97447/01 MO#4500143560]

Notice of Realty Action: Proposed Non-Competitive (Direct) Sale of Public Land in Elko County, Nevada, to the City of West Wendover

AGENCY: Bureau of Land Management, Interior.

ACTION: Notice of realty action.

SUMMARY: The Bureau of Land Management (BLM) proposes a non-competitive (direct) sale of 84.06 acres to the City of West Wendover. This land is currently part of the City of West Wendover's existing 175.06-acre Recreation and Public Purpose Act (R&PP) lease N-79079/01. The sale will be subject to the applicable provisions of Section 203 of the Federal Land Policy and Management Act of 1976 (FLPMA) and BLM land sale regulations, at no less than the fair market value of $840,000.

DATES: Interested parties may submit written comments regarding this direct sale until June 21, 2021. Comments may be mailed to the BLM office address below, faxed to 775-753-0347, or emailed to elfoweb@blm.gov. The BLM will not consider comments received via telephone.

ADDRESSES: You may submit written comments to the Elko District, Wells Field Office, Attn: Melanie Mitchell, Wells Field Manager, 3900 East Idaho St., Elko, Nevada 89801, or via fax to 775-753-0347, or via email to elfoweb@blm.gov.

FOR FURTHER INFORMATION CONTACT: Karen Uhri, Realty Specialist, BLM Elko District, Wells Field Office, at 775-753-0378, at the above address, or by email to kuhri@blm.gov. Persons who use a telecommunications device for the deaf (TDD) may call the Federal Relay Service (FRS) at 1-800-877-8339 to leave a message or question for the above individual. The FRS is available 24 hours a day, 7 days a week. Replies are provided during normal business hours.

SUPPLEMENTARY INFORMATION: The BLM proposes a non-competitive (direct) sale of 84.06 acres to the City of West Wendover. This land is currently part of the City of West Wendover's existing 175.06-acre Recreation and Public Purpose Act (R&PP) lease N-79079/01. This 84.06-acre portion of the R&PP lease has been developed by the City of West Wendover and includes the City Hall, City Police Station, administrative offices, North Gene L. Jones Way, and the Victory Highway arch, monument, and interpretative trail. These improvements were developed in accordance with the approved R&PP lease plan of development.

On December 1, 2006, a Federal Register Notice (71 FR 69583) segregated the lands from all forms of appropriation under the public land laws, including the general mining laws, except for the sale provisions of FLPMA.

The local government has an interest in incorporating this property into the City Center Downtown Development Master Plan, adopted in 2001. This area will be a focal point for the creation of the city center and downtown area and will include a variety of development initiatives, including public as well as ancillary private/commercial investments. This diversified development portfolio for the area will create and foster a vibrant city center and create new business investment, services, jobs, and related opportunities for the community.

This property is located in the City of West Wendover between Interstate 80 to the north and Wendover Boulevard to the south, and is legally described as:

Mount Diablo Meridian, Nevada

T. 33 N., R. 70 E.,

Sec. 8, lot 10;

Sec. 9, SW1/4SW1/4;

Sec. 16, lot 17.

The areas described aggregate 84.06 acres.

These public lands are identified and designated for disposal in the Wells Resource Management Plan, dated July 16, 1985.

The land meets the criteria for direct sale under 43 CFR 2711.3-3(a), “Direct sales may be utilized, when in the opinion of the Authorized Officer, a competitive sale is not appropriate and the public interest would best be served by a direct sale.” Consistent with FLPMA Section 203(a)(3), “Disposal of such tract will serve important public objectives, including but not limited to expansion of communities and economic development . . .”

The BLM prepared a parcel-specific Determination of National Environmental Policy Act Adequacy (DNA) document numbered DOI-BLM-NV-E030-2019-0005-DNA in connection with this Notice of Realty Action found at https://go.usa.gov/xAsFM.

These lands are not needed for any Federal purposes and the United States has no present interest in the property. All minerals for the subject land will be reserved to the United States pursuant to 43 CFR 2720.0-6. The patent, when issued, will contain a mineral reservation to the United States for all minerals.

The public land would not be offered for sale to the City of West Wendover until at least July 6, 2021, at the appraised fair market value of $840,000. Conveyance of the identified public land would be subject to valid existing rights of record and the following terms, conditions, and reservations:

1. All mineral deposits in the lands so patented, and to it, or persons authorized by it, the right to prospect for, mine, and remove such deposits from the same under applicable law and regulations to be established by the Secretary are reserved to the United States, together with all necessary access and exit rights;

2. A right-of-way is reserved for ditches and canals constructed by authority of the United States under the Act of August 30, 1890 (43 U.S.C. 945);

3. Valid existing rights; and

4. An appropriate indemnification clause protecting the United States from claims arising out the patentee's use, occupancy, or occupations on the patented lands.

Pursuant to the requirements established by Section 120(h) of the Comprehensive Environmental Response, Compensation and Liability Act, 42 U.S.C. 9620(h) (CERCLA), as amended, notice is hereby given that the land has been examined and no evidence was found to indicate that any hazardous substances have been stored for one year or more, nor have any hazardous substances been disposed of or released on the subject property. To the extent required by law, all parcels are subject to the requirements of Section 120(h) of CERCLA.

It is the City of West Wendover's responsibility to be aware of all applicable Federal, State, and local government laws, regulations, and policies that may affect the subject lands, including any required dedication of lands for public uses. It is also the City of West Wendover's responsibility to be aware of existing or prospective uses of nearby properties. When conveyed out of Federal ownership, the lands will be subject to any applicable laws, regulations, and policies of the applicable local government for proposed future uses. It is the responsibility of the City of West Wendover to be aware, through due diligence, of those laws, regulations, and policies, and to seek any required local approvals for future uses. The City of West Wendover should make itself aware of any Federal or State law or regulation that may affect the future use of the property. Any land lacking access from a public road or highway will be conveyed as such, and future acquisition for access will be the responsibility of the City of West Wendover.

The City of West Wendover will have until 4:30 p.m., Pacific Standard Time (PST), 20 days from the date of receiving the sale offer to accept the offer and submit a deposit of 20 percent of the purchase price. The City of West Wendover must remit the remainder of the purchase price within 180 days from the date of receiving the sale offer to the Elko District Office. Payment must be received in the form of a certified check, postal money order, bank draft, or cashier's check payable to the U.S. Department of the Interior—BLM. Failure to meet conditions established for this sale will void the sale and any funds received will be forfeited. The BLM will not accept personal or company checks.

Failure to submit the full price prior to, but not including the 180th day following the day of the sale, shall result in cancellation of the sale of the specific parcel and the deposit shall be forfeited and disposed of as other receipts of sale.

Arrangements for electronic fund transfer to the BLM for the payment of the balance due must be made a minimum of two weeks prior to the payment date.

In accordance with 43 CFR 2711.3-1(f), within 30 days the BLM may accept or reject any offer to purchase, or interest therein from sale if the BLM authorized officer determines consummation of the sale would be inconsistent with any law, or for other reasons as may be provided by applicable law or regulations. No contractual or other rights against the United States may accrue until the BLM officially accepts the offer to purchase and the full price is paid.

Detailed information concerning the land sale including the appraisal report, environmental assessment, and mineral report are available for review at the BLM Elko District, Wells Field Office. Public comments regarding the sale may be submitted in writing to the Field Manager (see the ADDRESSES Section).

Any adverse comments will be reviewed by the BLM Nevada State Director or other authorized official of the Department of the Interior, who may sustain, vacate, or modify this realty action in whole or in part. In the absence of timely filed objections, this realty action will become the final determination of the Department of the Interior not less than 60 days after May 7, 2021.

Before including your address, phone number, email address, or other personal identifying information in any comment, be aware that your entire comment, including your personal identifying information may be made publicly available at any time. While you can ask us in your comment to withhold your personal identifying information from public review, we cannot guarantee that we will be able to do so.

Authority: 43 CFR 2711.1-2.

Melanie Mitchell,
Wells Field Office Manager, Elko District, Wells Field Office.

[FR Doc. 2021-09636 Filed 5-6-21; 8:45 am]

BILLING CODE 4310-HC-P